DEPARTMENT OF TRANSPORTATION

Surface Transportation Board

[STB Ex Parte No. 290 (Sub-No. 5) (2005-3)]

Quarterly Rail Cost Adjustment Factor

AGENCY: Surface Transportation Board.

ACTION: Approval of rail cost adjustment factor.

SUMMARY: The Board has approved the third quarter 2005 rail cost adjustment factor (RCAF) and cost index filed by the Association of American Railroads. The third quarter 2005 RCAF (Unadjusted) is 1.136. The third quarter 2005 RCAF (Adjusted) is 0.552. The third quarter 2005 RCAF-5 is 0.528.

DATES: Effective July 1, 2005.

FOR FURTHER INFORMATION CONTACT: Mac Frampton, (202) 565-1541. (Federal Information Relay Service (FIRS) for the hearing impaired: 1-800-877-8339.)

SUPPLEMENTARY INFORMATION: Additional information is contained in the Board's decision, which is available on our Web site http://www.stb.dot.gov. To purchase a copy of the full decision, write to, e-mail or call the Board's contractor, ASAP Document Solutions; 9332 Annapolis Rd., Suite 103, Lanham, MD 20706; e-mail asapdc@verizon.net; phone (202) 306-4004. (Assistance for the hearing impaired is available through FIRS: 1-800-877-8339.)

This action will not significantly affect either the quality of the human environment or energy conservation.

Pursuant to 5 U.S.C. 605(b), we conclude that our action will not have a significant economic impact on a substantial number of small entities within the meaning of the Regulatory Flexibility Act.

Decided: June 16, 2005.
By the Board, Chairman Nober, Vice Chairman Buttrey, and Commissioner Mulvey.
Vernon A. Williams,
Secretary.

[FR Doc. 05-12443 Filed 6-22-05; 8:45 am]

BILLING CODE 4915-01-P